DEPARTMENT OF TRANSPORTATION

Federal Aviation Administration

14 CFR Part 71

[Docket No. FAA-2009-0405; Airspace Docket No. 09-ASW-17]

Amendment of Class E Airspace; Altus, OK

AGENCY: Federal Aviation Administration (FAA), DOT.

ACTION: Final rule; correction.

SUMMARY: This action corrects the final rule published in the Federal Register December 29, 2009, amending Class E airspace in the Altus, OK area. The geographic coordinates were incorrect for the Altus Localizer. This action corrects that error.

DATES: Effective date 0901 UTC April 8, 2010. The Director of the Federal Register approves this incorporation by reference action under 1 CFR part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

History

On December 29, 2009, the FAA published in the Federal Register a final rule amending Class E airspace in the Altus, OK area (74 FR 68666, Docket No. FAA-2009-0405). Subsequent to publication, an error was discovered in the geographic coordinates for the Altus AFB ILS Runway 17R Localizer. This action corrects the coordinates. Class E airspace designations are published in paragraph 6005, of FAA Order 7400.9T signed August 27, 2009, and effective September 15, 2009, which is incorporated by reference in 14 CFR part 71.1.

In rule FR Doc. E9-30283 published on December 29, 2009, (74 FR 68666) make the following correction:

On page 68667, in the first column, under Altus AFB ILS Runway 17R Localizer, remove “Lat. 34°43′15″ N., long 99°16′26″ W.” and insert “Lat. 34°38′31″ N., long 99°16′26″ W.”

Issued in Fort Worth, Texas, on March 29, 2010.
Walter L. Tweedy,
Acting Manager, Operations Support Group, ATO Central Service Center.

[FR Doc. 2010-7803 Filed 4-7-10; 8:45 am]

BILLING CODE 4910-13-P